DEPARTMENT OF COMMERCE

National Oceanic and Atmospheric Administration

[I.D. 082203C]

Endangered Species; File No. 1420, File No. 1444, and File No. 1447

AGENCY: National Marine Fisheries Service (NMFS), National Oceanic and Atmospheric Administration (NOAA), Commerce.

ACTION: Receipt of applications.

SUMMARY: Notice is hereby given of the following actions regarding permits for takes of shortnose sturgeon (Acipenser brevirosturm) for scientific research:

NMFS has received permit applications from Michael F. Mangold, U.S. Fish and Wildlife Service, Maryland Fisheries Resource Office, 177 Admiral Cochrane Drive, Annapolis, Maryland 21401(File No. 1444); and the South Carolina Department of Natural Resources (Dr. Mark Collins, Principal Investigator), 217 Fort Johnson Road, Charleston, South Carolina 29412 (File No. 1447). NMFS has received a request to modify a permit application from Douglas Peterson, Ph.D, Warnell School of Forest Resources (Fisheries Division), University of Georgia, Athens, Georgia 30602 (File No. 1420).

DATES: Written or telefaxed comments must be received on or before October 9, 2003.

ADDRESSES: The application and related documents are available for review upon written request or by appointment in the following office(s):

All documents: Permits, Conservation and Education Division, Office of Protected Resources, NMFS, 1315 East-West Highway, Room 13705, Silver Spring, MD 20910; phone (301)713-2289; fax (301)713-0376.

For File No. 1444: Northeast Region, NMFS, One Blackburn Drive, Gloucester, MA 01930-2298; phone (978)281-9200; fax (978)281-9371; and

For File No. 1420 and File No. 1447: Southeast Region, NMFS, 9721 Executive Center Drive North, St. Petersburg, FL 33702-2432; phone (727)570-5301; fax (727)570-5320.

FOR FURTHER INFORMATION CONTACT: Jennifer Jefferies or Sarah Wilkin, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

Applications for permits

Mr. Mangold (File No. 1444) seeks authorization to sample and track shortnose sturgeon for two projects: one project would be conducted in the Potomac River and the second would be conducted in the Delaware River, the Chesapeake Bay and its tributaries. For the Potomac River project, up to 50 fish would be taken annually via gill, pound, fyke and trammel netting, measured, weighed, PIT tagged, tissue samples will be taken, and the fish subsequently released. A subset of 20 fish annually would also be T-bar and CART tagged and have a temperature/depth datalogger attached. Additionally, Mr. Mangold would also use D-traps to collect up to 2500 shortnose sturgeon eggs annually. This research would be conducted from 2004-2006. For the second project, Mr. Mangold proposes to capture via gill and trammel net, measure, weigh, tag with PIT and T-bar tags, take a tissue and blood sample of, biopsy gonads of and release 50 fish annually. A subset of 10 fish annually would also have sonic transmitters attached before release and subsequently tracked. This project would be conducted from 2004-2009. A total of 5 incidental mortalities between both projects is requested.

The South Carolina Department of Natural Resources (File No. 1447) seeks authorization to sample and track shortnose sturgeon, in South Carolina coastal waters. Annually, up to 100 fish would be taken via gill nets and trawls, measured, weighed, PIT tagged, and the fish subsequently released. A subset of 50 fish annually would also have Dart tags attached, be outfitted with a radio/sonic transmitter and tracked. Additionally, the researchers would also use deployed buffer pads that act as egg mats to collect up to 100 shortnose sturgeon eggs annually. This research would be conducted from 2004-2009. A total of 2 incidental mortalities is requested.

Application to modify existing application

A notice of receipt of an application from Dr. Douglas Peterson (File No. 1420) to take shortnose sturgeon, for scientific research was published on March 11, 2003 (68 FR 11533). Dr. Peterson sought authorization to sample and track shortnose sturgeon in the Altamaha River in Georgia for five years. Annually, up to 200 fish were to be taken via gill and trammel netting, measured, weighed, PIT and Carlin tagged, tissue and pectoral fin ray samples taken, and the fish subsequently released. Additionally, up to 10 of the total fish sampled annually were to also receive an internal radio-sonic transmitter. Dr. Peterson also proposed to deploy artificial substrate samplers from February to mid-March to collect up to 100 shortnose sturgeon eggs annually. Dr. Peterson now proposes to increase the number of fish receiving an internal radio-sonic transmitter from 10 individuals to 30.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Dated: September 2, 2003.
Jill Lewandowski,
Acting Chief, Permits, Conservation and Education Division, Office of Protected Resources, National Marine Fisheries Service.

[FR Doc. 03-22919 Filed 9-8-03; 8:45 am]

BILLING CODE 3510-22-S